DEPARTMENT OF HOUSING AND URBAN DEVELOPMENT

[Docket No. FR-5415-N-06]

Notice of Availability: Notice of Funding Availability (NOFA) for Fiscal Year (FY) 2010 Tribal Colleges and Universities Program

AGENCY: Office of the Assistant Secretary for Policy Development and Research, HUD.

ACTION: Notice.

SUMMARY: Through this notice, HUD announces the availability on its website of the application information, submission deadlines, funding criteria, and other requirements for the FY2010 Tribal Colleges and Universities Program NOFA. This NOFA makes approximately $6.3 million available to assist Tribal Colleges and Universities (TCU) to build, expand, renovate, and equip their own facilities, and to expand the role of the TCUs into the community through the provision of needed services such as health programs, job training, and economic development activities. The notice providing information regarding the application process, funding criteria and eligibility requirements can be found using the Department of Housing and Urban Development agency link on the Grants.gov/Find Web site at http://www.grants.gov/search/agency.do and the HUD Web site at http://www.hud.gov/offices/adm/grants/fundsavail.cfm. A link to Grants.gov is also available on the HUD Web site.

The Catalogue of Federal Domestic Assistance (CFDA) number for the Tribal Colleges and Universities Program NOFA Program is 14.519. Applications must be submitted electronically through Grants.gov.

FOR FURTHER INFORMATION CONTACT: For information concerning the Tribal Colleges and Universities Program, contact Sherone Ivey, Office of University Partnerships, Office of Policy Development and Research, Department of Housing and Urban Development, 451 Seventh Street, SW., Room 8226, Washington, DC 20410; telephone 202-402-4200 (this is not a toll-free number). Persons with speech or hearing impairments may access this telephone number via TTY by calling the toll-free Federal Information Relay Service during working hours at 800-877-8339.

Dated: July 15, 2010.
Raphael W. Bostic,
Assistant Secretary for Policy Development and Research.

[FR Doc. 2010-18030 Filed 7-22-10; 8:45 am]

BILLING CODE 4210-67-P